FEDERAL COMMUNICATIONS COMMISSION

47 CFR Part 73

[DA 00-2302; MM Docket Nos. 00-189, 00-190, 00-191, 00-192; RM-9984, RM-9985, RM-9986, RM-9987

Radio Broadcasting Services (Heber, Snowflake, Overgaard, and Taylor, Arizona)

AGENCY: Federal Communications Commission.

ACTION: Proposed rule.

SUMMARY: The Commission, at the request of New Directions Media, Inc., seeks comment on four petitions for rulemaking requesting the allotment of Channel 288C2 at Heber, Arizona; Channel 258C2 at Snowflake, Arizona; Channel 232C3 at Overgaard, Arizona; and Channel 278C3 at Taylor, Arizona as each community's first local aural service. Channel 288C2 can be allotted to Heber in compliance with the Commission's minimum distance separation requirements, with respect to domestic allotments, without the imposition of a site restriction, at coordinates 34-25-53 NL and 110-35-36 WL. Channel 258C2 can be allotted to Snowflake in compliance with the Commission's minimum distance separation requirements, with respect to domestic allotments, without the imposition of a site restriction at coordinates 34-30-48 NL and 110-04-40 WL. Channel 232C3 can be allotted to Overgaard in compliance with the Commission's minimum distance separation requirements, with respect to domestic allotments, without the imposition of a site restriction at coordinates 34-23-27 NL and 110-33-04 WL. Channel 278C3 can be allotted to Taylor in compliance with the Commission's minimum distance separation requirements, with respect to domestic allotments, without the imposition of a site restriction at coordinates 34-27-54 NL and 110-05-26 WL. Petitioner is requested to provide further information concerning the community status of each proposed community.

DATES: Comments must be filed on or before December 1, 2000, and reply comments on or before December 18, 2000.

ADDRESSES: Federal Communications Commission, 445 12th Street, S.W., Room TW-A325, Washington, D.C. 20554. In addition to filing comments with the FCC, interested parties should serve the petitioner, or its counsel or consultant, as follows: New Directions Media, Inc., Robert D. Zellmer, President, P.O. Box 1643, Greeley, CO 80632.

FOR FURTHER INFORMATION CONTACT: Victoria M. McCauley, Mass Media Bureau, (202) 418-2180.

SUPPLEMENTARY INFORMATION: This is a synopsis of the Commission's Notice of Proposed Rule Making, Docket No. 00-189, 00-190, 00-191, 00-192, adopted September 27, 2000, and released October 11, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Part 73 of title 47 of the Code of Federal Regulations is amended as follows:

PART 73—RADIO BROADCAST SERVICES

1. The authority Citation for part 73 continues to read as follows:

Authority: 47 U.S.C 154, 303, 334 and 336.

§ 73.202 [Amended]

2. Section 73.202(b), the Table of FM Allotments under Arizona, is amended by adding Heber, Channel 288C2, Snowflake, Channel 258C2, Overgaard, Channel 232C3, and Taylor, Channel 278C3.

Federal Communications Commission.
John A. Karousos,
Chief, Allocations Branch, Policy and Rules Division, Mass Media Bureau.

[FR Doc. 00-27906 Filed 10-30-00; 8:45 am]

BILLING CODE 6712-01-P